DEPARTMENT OF THE INTERIOR

Bureau of Land Management

[LLAK-941000-L1410000-ET0000; AA-45553]

Notice of Proposed Withdrawal and Opportunity for Public Meeting; AK

AGENCY: Bureau of Land Management, Interior.

ACTION: Notice.

SUMMARY: The United States Forest Service (USFS) has filed an application with the Bureau of Land Management (BLM) to extend Public Land Order (PLO) No. 7177 for an additional 20-year term. This order withdrew approximately 22.51 acres of National Forest System land from settlement, sale, location, or entry under the general land laws, including the United States mining laws, for protection of the Glacier Loop Administrative Site in Alaska. The withdrawal created by PLO No. 7177 will expire on December 20, 2015, unless extended. This notice provides the public an opportunity to comment on the proposed withdrawal extension and to request a public meeting.

DATES: Comments and requests for a public meeting must be received by July 30, 2013.

ADDRESSES: Comments and meeting requests should be sent to the Alaska State Director, Bureau of Land Management, Alaska State Office, 222 West Seventh Avenue, No. 13, Anchorage, Alaska 99513-7504.

FOR FURTHER INFORMATION CONTACT: Gina Kendall, Land Law Examiner; Bureau of Land Management (BLM) telephone, 907-271-5688; or email, gkendall@blm.gov. Persons who use a Telecommunications Device for the Deaf (TDD) may call the Federal Information Relay Service (FIRS) at 1-800-877-8339 to contact the above individual. In addition, the FIRS is available 24 hours a day, 7 days a week, to leave a message or question with the BLM. You will receive a reply from the BLM during normal business hours.

SUPPLEMENTARY INFORMATION: The USFS filed an application with the BLM requesting that the Secretary of the Interior extend PLO No. 7177 (60 FR 66510, December 21, 1995), which withdrew 22.51 acres of public land from settlement, sale, location, or entry under the general land laws, including the United States mining laws, for an additional 20-year period to continue the protection of the Glacier Loop Administrative Site. PLO No. 7177 is incorporated herein by reference.

A complete description, along with all other records pertaining to the extension, can be examined in the BLM Alaska State Office at the address shown above.

The extended withdrawal would not alter the applicability of those public land laws governing the use of land under lease, license, or permit or governing the disposal of the mineral or vegetative resources other than under the mining laws.

The use of a right-of-way or interagency or cooperative agreement would not adequately protect the Federal interest in the Glacier Loop Administrative Site in Alaska.

There are no suitable alternative sites available that could be substituted for the above described public land since the Glacier Loop Administrative Site includes the Juneau Ranger District Office, shop, warehouse, and housing facilities. The site also includes the Juneau Forecast Office of the National Weather Service (authorized under a USFS Special Use Permit).

No water rights would be needed to fulfill the purpose of the requested withdrawal extension.

For a period until July 30, 2013, all persons who wish to submit comments, suggestions, or objections in connection with the proposed withdrawal extension may present their views in writing to the BLM Alaska State Director at the address indicated above. Before including your address, phone number, email address, or other personal identifying information in your comment, you should be aware that your entire comment—including your personal identifying information—may be made publicly available at any time. While you can ask us in your comment to withhold your personal identifying information from public review, we cannot guarantee that we will be able to do so.

We hereby give notice that an opportunity for a public meeting is afforded in connection with the proposed withdrawal extension. All interested parties who desire a public meeting for the purpose of being heard on the proposed withdrawal must submit a written request to the BLM Alaska State Director at the address indicated above. Upon determination by the authorized officer that a public meeting will be held, a notice of the time and place will be published in the Federal Register and at least one local newspaper at least 30 days before the scheduled date of the meeting.

The withdrawal extension application will be processed in accordance with the regulations set forth in 43 CFR 2310.4 and subject to Section 810 of the Alaska National Interest Lands Conservation Act, (16 U.S.C. 3120).

Robert L. Lloyd,
Chief, Branch of Lands and Realty.

[FR Doc. 2013-10300 Filed 4-30-13; 8:45 am]

BILLING CODE 4310-JA-P